DEPARTMENT OF LABOR

Employment and Training Administration

[TA-W-50,876]

Mechanical Products Company, LLC, Aerospace Division, Jackson, Michigan; Notice of Negative Determination Regarding Application for Reconsideration

By application of May 27, 2003, the International Union, United Automobile, Aerospace & Agricultural Implement Workers of America (UAW), Region 1C and Local Union 1330, requested administrative reconsideration of the Department's negative determination regarding eligibility to apply for Trade Adjustment Assistance (TAA), applicable to workers and former workers of the subject firm. The denial notice was signed on April 11, 2003, and published in the Federal Register on May 1, 2003 (68 FR 23322).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Mechanical Products Company, LLC, Aerospace Division, Jackson, Michigan was denied because the “contributed importantly” group eligibility requirement of Section 222 of the Trade Act of 1974, was not met. The “contributed importantly” test is generally demonstrated through a survey of customers of the workers' firm. The survey revealed that none of the respondents increased their purchases of imported breakers for the aerospace industry. The company did not import breakers for the aerospace industry in the relevant period.

The union asserts that, in addition to producing circuit breakers for the aerospace industry, the subject firm also produced circuit breakers for other commercial purposes, specifically in the “1600” and “2000” series.

A company official was contacted in regard to these allegations. The official stated that, from the end of 2001 and into 2002, the subject facility briefly did some production of the 1600 series circuit breakers while the firm was in the process of shifting this production from an affiliate in Maryland to foreign sources; however, subject firm production for series 1600 circuit breakers was negligible in relation to overall plant production and no layoffs resulted from this production cessation in Jackson. The official further stated that there had been some “rework” done on series 2000 circuit breakers shipped from a foreign facility to Jackson; again, however, this work constituted a negligible portion of plant production. Finally, the company official clarified that subject firm layoffs were entirely attributable to the sale of the company's Aerospace Division to another company that subsequently moved production to an existing facility in Sarasota, Florida.

Conclusion

After review of the application and investigative findings, I conclude that there has been no error or misinterpretation of the law or of the facts which would justify reconsideration of the Department of Labor's prior decision. Accordingly, the application is denied.

Signed at Washington, DC, this 29th day of July, 2003.
Elliott S. Kushner,
Certifying Officer, Division of Trade Adjustment Assistance.

[FR Doc. 03-20104 Filed 8-6-03; 8:45 am]

BILLING CODE 4510-30-P